DEPARTMENT OF TRANSPORTATION

Federal Aviation Administration

14 CFR Part 73

[Docket No. FAA-2012-0461; Airspace Docket No. 12-AWP-1]

RIN 2120-AA66

Amendment of Restricted Area R-2502E; Fort Irwin, CA

AGENCY: Federal Aviation Administration (FAA), DOT.

ACTION: Final rule.

SUMMARY: This action changes the designated controlling agency for restricted area R-2502E, Fort Irwin, CA, from the Federal Aviation Administration, High-Desert Terminal Radar Approach Control (TRACON), Edwards, CA, to FAA, Los Angeles Air Route Traffic Control Center (ARTCC). This change will improve the efficiency of air traffic operations in the vicinity of Fort Irwin, CA.

DATES: Effective date 0901 UTC, July 26, 2012.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Background

For operational considerations and improved efficiency of the National Airspace System, the FAA is changing the assigned controlling agency for restricted area R-2502E, Fort Irwin, CA, to “FAA, Los Angeles ARTCC.”

The Rule

This action amends Title 14 Code of Federal Regulations (14 CFR) part 73 to update the controlling agency for restricted area R-2502E, Fort Irwin, CA. The FAA is changing controlling agency responsibility for R-2502E from “FAA, High-Desert TRACON, Edwards, CA,” to “FAA, Los Angeles ARTCC.”

This is an administrative change and does not affect the boundaries, designated altitudes, or activities conducted within the restricted area; therefore, notice and public procedures under 5 U.S.C. 553(b) are unnecessary.

Section 73.25 of 14 CFR part 73 was republished in FAA Order 7400.8U, effective February 16, 2012.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as amends the description of restricted area R-2502E at Fort Irwin, CA.

Environmental Review

The FAA has determined that this action qualifies for categorical exclusion under the National Environmental Policy Act in accordance with FAA Order 1050.1E, Environmental Impacts: Policies and Procedures, paragraph 311d. This airspace action is an administrative change to update the assigned controlling agency for R-2502E. It does not alter the altitudes, time of designation or use of the restricted airspace at Fort Irwin, CA, therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2502E Fort Irwin, CA [Amended]

By removing the current Controlling agency and substituting the following:

Controlling agency. FAA, Los Angeles ARTCC.

* * * * *

Issued in Washington, DC, on May 16, 2012.
Ellen Crum,
Acting Manager, Airspace, Regulations and ATC Procedures Group.

[FR Doc. 2012-12541 Filed 5-23-12; 8:45 a.m.]

BILLING CODE 4910-13-P